SECURITIES AND EXCHANGE COMMISSION

[OMB Control No. 3235-0219]

Agency Information Collection Activities; Submission for OMB Review; Comment Request; Reinstatement With Change: Rule30a-1

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (the “Commission” or “SEC”) has submitted to the Office of Management and Budget a request for reinstatement of the previously approved collection of information discussed below.

The title for the collection of information is “Rule 30a-1 (17 CFR 270.30a-1) under the Investment Company Act of 1940.”

The Commission is seeking to reinstate the Paperwork Reduction Act (“PRA”) information collection request for rule 30a-1 (17 CFR 270.30a-1) under the Investment Company Act of 1940 under OMB control number 3235-0219 for the purpose of discontinuing this information collection. The last Commission request for OMB approval under this control number was submitted in May of 2000. Rule 30a-1 is an active rule, but it has been amended since the last PRA submission in 2000. The current rule requires investment companies and unit investment trusts to file an annual report on Form N-CEN at least every twelve months. The burden associated with the information request outlined within rule 30a-1 is contained within the information collection request for Form N-CEN under OMB control number 3235-0729. Thus, there has been no lapse in reporting the burden associated with rule 30a-1. Since the burden is being reported under an alternative ICR, the Commission is seeking to reinstate the rule 30a-1 ICR under control number 3235-0729 in order to have it properly discontinued. Moving forward, the Commission will reference rule 30a-1 within the ICR for Form N-CEN.

The requirements of this collection of information are mandatory. Responses will not be kept confidential. An agency may not conduct or sponsor, and a person is not required to respond to a collection of information unless it displays a currently valid control number.

The public may view and comment on this information collection request at: https://www.reginfo.gov/public/do/PRAViewICR?ref_nbr=202507-3235-014 or email comment to MBX.OMB.OIRA.SEC_desk_officer@omb.eop.gov within 30 days of the day after publication of this notice, by December 19, 2025.

Dated: November 14, 2025.
Sherry R. Haywood,
Assistant Secretary.

[FR Doc. 2025-20183 Filed 11-17-25; 8:45 am]

BILLING CODE 8011-01-P